DEPARTMENT OF JUSTICE

Antitrust Division

Notice Pursuant to the National Cooperative Research and Production Act of 1993—Expeditionary Missions Consortium—Crane

Notice is hereby given that, on July 28, 2025, pursuant to section 6(a) of the National Cooperative Research and Production Act of 1993, 15 U.S.C. 4301 et seq. (“the Act”), Expeditionary Missions Consortium—Crane (“EMC²”) has filed written notifications simultaneously with the Attorney General and the Federal Trade Commission disclosing changes in its membership. The notifications were filed for the purpose of extending the Act's provisions limiting the recovery of antitrust plaintiffs to actual damages under specified circumstances. Specifically, AISensation LLC, Mission Viejo, CA; MerLion Advisory Group LLC, Los Fresnos, TX; Allen Control Systems, Inc., Austin, TX; Archaius LLC, Durham, NC; Bascom Hunter Technologies, Inc., Baton Rouge, LA; Blue Water Autonomy, Inc., Brookline, MA; Discovery Machine, Inc., Williamsport, PA; ECI Defense Group, Inc., Lyles, TN; Kestrel Intelligence, Inc., Boise, ID; Kopin Corporation, Westborough, MA; Louise NanoInnovation North American LLC, Corpus Christi, TX; ParticleFlow LLC, Fishersville, VA; Raglan LLC, Wilmington, NC; Sea Machines Robotics, Inc., Boston, MA; Serco, Inc., Herndon, VA; SGSD Partners LLC, Washington, DC; Swiftships LLC, Morgan City, LA; Systel, Inc., Sugar Land, TX; Tangram Flex, Inc., Dayton, OH; Two Six Labs LLC dba Two Six Technologies, Arlington, VA; University of Missouri, Columbia, MO; Vannevar Labs, Inc., Palo Alto, CA; Vatn Systems, Inc., Bristol, RI; and WingXpand, Inc., Saint Louis, MO, have been added as parties to this venture.

No other changes have been made in either the membership or planned activity of the group research project. Membership in this group research project remains open, and EMC² intends to file additional written notifications disclosing all changes in membership.

On January 11, 2024, EMC² filed its original notification pursuant to section 6(a) of the Act. The Department of Justice published a notice in the Federal Register pursuant to section 6(b) of the Act on March 13, 2024 (89 FR 18439).

The last notification was filed with the Department on April 14, 2025. A notice was published in the Federal Register pursuant to section 6(b) of the Act on April 23, 2025 (90 FR 17080).

Suzanne Morris,
Deputy Director Civil Enforcement Operations, Antitrust Division.

[FR Doc. 2025-15581 Filed 8-14-25; 8:45 am]

BILLING CODE P